SECURITIES AND EXCHANGE COMMISSION

Sunshine Act Meeting; Cancellation

FEDERAL REGISTER CITATION OF PREVIOUS ANNOUNCEMENT:

PREVIOUSLY ANNOUNCED TIME AND DATE OF THE MEETING: Thursday, April 21, 2016 at 2:00 p.m.

CHANGES IN THE MEETING: The Closed Meeting scheduled for Thursday, April 21, 2016 at 2:00 p.m., has been cancelled.

CONTACT PERSON FOR MORE INFORMATION: For further information and to ascertain what, if any, matters have been added, deleted or postponed, please contact the Office of the Secretary at (202) 551-5400.

Dated: April 18, 2016.
Brent J. Fields,
Secretary.

[FR Doc. 2016-09355 Filed 4-19-16; 11:15 am]

BILLING CODE 8011-01-P